DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Outcome Measures for Substance Abuse Prevention (OMB No. 0930-0230)—Revision

Given SAMHSA's emphasis on reducing burden and limiting required measures, CSAP has proposed a greatly reduced OMB clearance package that would include a small set of required measures. Seven optional measures are also included under this proposed approach and are indicated by an asterisk (*). CSAP would like to characterize this set of measures as the NOMs for prevention. Honoring our agreement with the States, these optional and required NOMs may be modified based upon further dialogue with the States as NOMs implementation proceeds. In addition to requesting approval to collect data using four current GPRA measures (30 day use, age of first use, disapproval, perceived risk), CSAP has added the following:

Abstinence

Binge Drinking.* Binge drinking is distinct from past 30 day use in that it involves dangerous amounts of alcohol consumption on any given occasion. Binge drinking is a public health concern because it is widespread among young adults and adolescents and contributes directly to injuries and fatalities. Evidence-based prevention strategies, programs, and policies exist to reduce binge drinking, with several programs focusing on binge drinking on college campuses. SAMHSA currently supports a nation-wide underage drinking initiative, which includes a focus on reducing binge drinking among our youth. The NSDUH, Youth Risk Behavior Survey (YRBS), Behavioral Risk Factor Surveillance System (BRFSS) are nearly identical and ask the number of times during the past 30 days that the respondent had five or more drinks on a single occasion or within a couple of hours. The MTF and College Alcohol Study ask the same question, but use the past two weeks as the reference period. The College Alcohol Survey also asks how many times the respondent had four drinks. Given the similarity of these measures, CSAP recommends the NSDUH measure for consistency with our other NOMs.

Perceived Availability.* Perceived availability of alcohol and illicit drugs is associated with alcohol and illicit drug consumption. Perceived availability is distinct from other NOM correlates of substance use (e.g., perceived risk) because it provides insight into respondents' beliefs regarding environmental conditions that may affect substance use. Efforts to reduce availability (perceived or real) have been shown to reduce consumption and consequences of alcohol and illicit drug use. CSAP recommends including perceived availability because of its strong association with alcohol and illicit drug use correlation with alcohol use = .44; marijuana use = .33) and prevalence in prevention programming. CSAP recommends the NSDUH measure on perceived availability of illicit drugs because data are collected annually and this would be consistent with our other NOM measures (.27-.45 correlation w/ use).

Criminal Involvement

Antisocial Behavior*. Antisocial/delinquent behavior is predictive of involvement in the criminal justice system and is correlated with substance use. Therefore, it is relevant to measures this construct within this domain, particularly among adolescents who may not yet be involved in the criminal justice system. Antisocial/delinquent behavior is distinct from other NOM constructs (e.g., drug-related crime) in that it addresses a broad set of problem behaviors, rather than a more narrow set of behaviors that result in arrest or adjudication. CSAP recommends including antisocial and delinquent behavior because these behaviors are predictive of involvement in the criminal justice system and are correlated with substance use (alcohol = 23; marijuana = .29). Many evidence-based substance abuse prevention programs target antisocial/delinquent violent behaviors (.23-.375 correlation w/use), especially those for selective and indicated populations. Epidemiologic measures from state and community level sources (AOD related car crashes, police reports on drug related incidents) are not appropriate performance measures for those more targeted, direct service types of programs. This is why we are recommending the survey measures from the NSDUH.

Alcohol and drug related arrests.* According to the most recent NSDUH survey results “* * * youths in 2003 were more likely to have used an illicit drug in the past month if they carried a handgun (32.5 vs. 10.4 percent), sold illegal drugs (67.0 vs. 9.1 percent), or stolen or tried to steal something worth $50 or more (39.1 vs. 9.9 percent)”. Clearly, the relationship between criminal conduct while using substances is an accepted fact. For programs that are targeting risk factors that underlie both substance use and illegal behavior, this is an extremely pertinent performance measure. This NSDUH survey measure is particularly important for programs that are selective or indicated, because the other community level (epidemiological) NOM data will likely not reflect their performance.

Social Support/Social Connectedness (Currently on the NOM Web site as Under Development)

Community Involvement.* Community involvement is associated with social support and social connectedness and, therefore, is a relevant construct to measure within this domain. For example, increased community involvement was associated with improved family interactions and parent attitude (Substance Abuse Prevention Evaluation Outcomes Fiscal Year 2004, New Mexico Department of Health Publication, October 2004)

CSAP recommends including community involvement because of this relationship. There was discussion about the construct itself and what it means to be involved in one's community. There are a number of ways to measure community involvement, such as participation in many different types of activities, or pursuing a few activities with commitment. In order to keep the data source consistent and be assured of obtaining national and state level data, CSAP recommends the NSDUH prevention measures for assessing actual participation in community activities.

Collective Efficacy *. Collective efficacy refers to the extent to which community members feel that they monitor their neighborhoods, look after each other, and share common values. Perhaps, because measurement in the area of collective efficacy is fairly new, it was difficult to find data to support or refute the idea that it is associated with substance use. However, it is clearly reflective of the purpose of the Drug Free Communities program, and CSAP/SAMHSA's philosophical and practical focus regarding coalition building and other empowerment infrastructure activities. Because of its accessibility in the public domain, CSAP recommends the NSDUH measure of collective efficacy as a prevention outcome measure. It has a high reliability (greater than .80) as a cohesive measure.

Family Communication*. Positive parent-child communication is an objective of family-based prevention interventions. The family is emphasized by this administration, and is “the anti-drug” in ONDCP campaigns. Research has shown that family factors play an important role in the etiology of substance abuse, as well as the positive development of children and youth (Spoth, Kavanagh, & Dishion, 2002). In addition, family- and parent-centered prevention interventions have been developed, evaluated, and disseminated in ever increasing numbers during the last decade (e.g., Bauman et al., 2001; Dishion & Kavanagh, 2000; Spoth, Redmond, & Shin, 2001). CSAP recommends the NSDUH items regarding family communications specifically about drug abuse. The NSDUH includes one item for children (During the past 12 months, have you talked with at least one of your parents about the dangers of tobacco, alcohol, or drug use?), and two for parents (During the past 12 months, how many times have you talked with your child about the dangers or problems associated with the use of tobacco, alcohol, or other drugs? Think about the most serious and thorough discussion about drugs you had with your child during the past 12 months. About how long did this discussion last?). These one- and two-item measures have merit for prevention because they ask specifically about conversations regarding ATOD and they are collected annually. (.20-.27 correlation w/use)

CSAP believes that these measures are necessary to include as NOMs based on its long history working with states, communities and prevention providers, and on input from its Data Coordinating Center and outside expert panels who made recommendations based on a review of existing measures using standard criteria. Additionally, we believe that these measures can be collected at the national, state, substate and/or program level as appropriate, providing the consistency of measurement towards which we strive. Additional NOMs epidemiologic measures t are already collected by other agencies and no burden will be posed to SAMHSA/CSAP grantees. The measures will be used as follows:

National/State: Outcome trend measures to identify need and monitor global effectiveness at the population level, for the purpose of informing federal resource allocation decisions.

Community: Outcome trend measures to (1) determine need and target resources to communities at greatest risk, (2) track performance of universal programs and environmental strategies. The data will inform allocation of community resources.

Program: Outcome pre/post measures to assess program performance of direct service programs at the individual program participant level.

Domain | NOM | Data source
Abstinence | 30 day substance use: nonuse/reduction in use (1); Age of first use; Perception of disapproval/attitude (1); Perceived risk/harm of use (1); Binge drinking*; Perceived availability* | NSDUH.
Employment/Education | Workplace AOD use and perception of workplace policy (adult); | NSDUH.
| ATOD-related suspensions and expulsions (youth) | DofED RECORDS.
Crime and Criminal Justice | Alcohol related car crashes and injuries | FARS.
| Drug related crime | UCR.
| Alcohol and drug related arrests*; Antisocial behavior* | NSDUH.
Stability in Housing | N/A
Access/Service Capacity | # of persons served by age, gender, race, ethnicity | MDS.
Retention | Total # evidence based programs and strategies | MDS.
Social Support/Social Connectedness | Collective efficacy*; Community Involvement*; Family communication-drug use* | NSDUH.
Cost Effectiveness | Increase services provided within cost bands (within universal, selective and indicated programs).¹ | Template (under development).
Use of Evidence Based Practices | Total # of evidence based programs and strategies.¹ | MDS.
¹ PART measure.
Notes.—(Other Part measures for CSAP): past year use: BG.
# practices reviewed and approved NREP: PRNS.
Percent states satisfied w/TA: BG.

SAMHSA/CSAP program | Number of grantees | Responses/grantee | Hours/ response | Total hours
FY05
Knowledge Development:
Club drugs/Methamphetamine | 22 | 2 | 3 | 132
Fetal Alcohol | 6 | 2 | 3 | 36
Workplace | 13 | 2 | 3 | 78
Targeted Capacity Enhancement:
HIV/Targeted Capacity | 45 | 2 | 3 | 270
SPF SIG | 21 | 2 | 3 | 126
FY05 Total | 106 |  |  | 642
FY06
Knowledge Development:
Club Drugs/Methamphetamine | 22 | 2 | 3 | 132
Fetal Alcohol | 6 | 2 | 3 | 36
Workplace | 13 | 2 | 3 | 78
Targeted Capacity Enhancement:
HIV/Targeted Capacity | 45 | 2 | 3 | 270
SPF SIG | 40 | 2 | 3 | 240
FY06 Total | 126 |  |  | 756
FY07
Knowledge Development:
Club Drugs/Methamphetamine | 22 | 2 | 3 | 132
Fetal Alcohol | 6 | 2 | 3 | 36
Workplace | 13 | 2 | 3 | 78
Targeted Capacity Enhancement:
HIV/Targeted Capacity | 45 | 2 | 3 | 270
SPF SIG | 50 | 2 | 3 | 300
FY07 Total | 136 |  |  | 816
3-Year Annual Average | 123 |  |  | 736

Written comments and recommendations concerning the proposed information collection should be sent by September 29, 2005 to: SAMHSA Desk Officer, Human Resources and Housing Branch, Office of Management and Budget, New Executive Office Building, Room 10235, Washington, DC. 20503; due to potential delays in OMB's receipt and processing of mail sent through the U.S. Postal Service, respondents are encouraged to submit comments by fax to: 202-395-6974.

Dated: August 23, 2005.
Anna Marsh,
Executive Officer, SAMHSA.

[FR Doc. 05-17178 Filed 8-29-05; 8:45 am]

BILLING CODE 4162-20-P